DEPARTMENT OF INTERIOR

National Park Service

[NPS-SERO-BICY-16765; PPSESEROC3, PMP00UP05.YP0000]

Assessment of Eligible and Ineligible Lands for Consideration as Wilderness Areas, Big Cypress National Preserve

AGENCY: National Park Service, Interior.

ACTION: Notice of intent to assess Big Cypress National Preserve lands for wilderness eligibility.

SUMMARY: Pursuant to the Wilderness Act of 1964, and in accordance with National Park Service (NPS) Management Policies (2006), Section 6.2.1, the NPS intends to assess lands within the original 1974 legislated boundary of Big Cypress National Preserve for wilderness eligibility. A determination of eligibility and subsequent future actions will be announced in the Federal Register upon completion of the assessment.

DATES: The eligibility assessment began on September 16, 2014 and is anticipated to be completed by January 30, 2015.

FOR FURTHER INFORMATION CONTACT: Suggestions, comments, and requests for further information should be directed to Big Cypress National Preserve Chief of Interpretation Bob Degross by phone at 239-695-2000, via email at Bob_DeGross@nps.gov, or by mail at Big Cypress National Preserve, 33100 Tamiami Trail East Ochopee, Florida 34141.

Dated: November 19, 2014.
Sherri L. Fields,
Acting Regional Director, Southeast Region.

[FR Doc. 2014-29259 Filed 12-12-14; 8:45 am]

BILLING CODE 4310-JD-P